DEPARTMENT OF TRANSPORTATION

Federal Aviation Administration

FAA (Aircraft Certification Service) Information Sharing and Listening Session

AGENCY: Federal Aviation Administration (FAA), DOT.

ACTION: Notice of meeting.

SUMMARY: This notice announces a meeting to discuss various FAA rotorcraft safety initiatives and to gather any relevant information that will help to reduce general aviation rotorcraft accidents. This meeting supports the FAA's Flight Plan initiative to reduce general aviation accidents.

DATES: The meeting will be on February 28, 2006, 1-3:30 p.m. CST.

ADDRESSES: The meeting is in conjunction with Heli-Expo at the Dallas Convention Center, Conference Room D167, 650 South Griffin Street, Dallas, TX 75202; telephone (214) 939-2700.

FOR FURTHER INFORMATION CONTACT: Jorge Castillo, Rotorcraft Standards Staff, ASW-111, 2601 Meacham Boulevard, Fort Worth, TX 76137, telephone (817) 222-5127, or by e-mail at Jorge.R.Castillo@faa.gov.

SUPPLEMENTARY INFORMATION: The meeting is announced pursuant to 49 U.S.C. 40113 and 49 U.S.C. 44701 to take actions the FAA considers necessary in order to enhance safety in air commerce and the DOT policies and procedures to seek public participation in that process.

This meeting is part of the Rotorcraft Directorate's initiative and supports one of the top safety objectives of the FAA 2006-2010 Flight Plan to reduce the number of fatal accidents in general aviation. At this meeting, we will brief you on some of the FAA's initiatives intended to reduce rotorcraft accidents, including installing Health Usage Monitoring Systems (HUMS) and using Night Vision Imaging Systems (NVIS). You will have an opportunity to propose safety-enhancing recommendations and to recommend how the FAA should implement strategies that will help reduce rotorcraft accidents. Attendance is open to all interested persons but will be limited to the space available.

Issued in Fort Worth, Texas, on February 8, 2006.
Sharon Y. Miles,
Acting Manager, Rotorcraft Directorate, Aircraft Certification Service.

[FR Doc. E6-2179 Filed 2-14-06; 8:45 am]

BILLING CODE 4910-13-P